DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed reinstatement and three-year approval of Form EIA-457A-G, “Residential Energy Consumption Survey (RECS).”

DATES: Comments must be filed by April 24, 2009. If you anticipate difficulty in submitting comments within that period, contact the person listed below as soon as possible.

ADDRESSES: Send comments to James R. Berry. To ensure receipt of the comments by the due date, submission by fax (202-586-0018) or e-mail (james.berry@eia.doe.gov) is recommended. The mailing address is Office of Energy Markets and End-Use, Energy Consumption Division, EI-63, Forrestal Building, U.S. Department of Energy, Washington, DC 20585. Alternatively, James Berry may be contacted by telephone at (202) 586-5543.

FOR FURTHER INFORMATION CONTACT: Requests for additional information or copies of any forms and instructions should be directed to James Berry at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The Residential Energy Consumption Survey (RECS) is a periodic survey of U.S. residential households to collect energy consumption and expenditures data and track changes over time. The data are widely used throughout the government and the private sector for policy analysis and are made available to the public via data tables, public-use data files, and detailed analysis papers and reports. Comprehensive data for the most recent survey, the 2005 RECS, are available in electronic format at the EIA's Residential Consumption web site home page at http://www.eia.doe.gov/emeu/recs/contents.html. Results from earlier surveys conducted in 1993, 1997, and 2001 are available in both printed and electronic format. Results from earlier RECS are available only in printed form.

Please refer to the survey website for more information about the purpose of the survey and discussions of survey and data collection methodologies. For instructions on obtaining survey forms, see the FOR FURTHER INFORMATION CONTACT section.

II. Current Actions

This is a reinstatement of OMB No. 1905-0092 that expired May 31, 2008. The reinstatement will be for a three-year period. No significant content or methodological changes are being implemented. The RECS is conducted on a quadrennial schedule, a schedule established with the 1997 RECS. Computer-Assisted Personal Interviewing (CAPI), a technology used since the 1997 RECS will be used again for the 2009 iteration of the survey.

The content of the 2009 survey questionnaires will remain relatively unchanged from the content in the 2005 RECS. Proposed changes include reinstatement of residential transportation items (last collecting in the 1993 RECS), revised wording in the interest of clarity, and additions and deletions of items due to changes in technology or changes in energy usage in the U.S. Questions regarding home electronics, for example, are updated to reflect increased number of high-definition televisions and television peripherals in U.S. homes. Some questions that yielded little useful data will be deleted. The 2005 RECS contained a series of questions included at the request of the Environmental Protection Agency (EPA). These items related to household water usage have been deleted. All changes are made in the interest of collecting higher quality responses, to enhance the EIA's ability to accurately identify the end-uses for which energy is consumed in households, and to support end-use consumption and expenditure estimates.

The 2009 RECS Household questionnaire will again contain a section of questions specifically for low-income household respondents. These questions are added at the request of the Department of Health and Human Services (HHS) and used in HHS' Low-Income Housing Energy Assistance Program (LIHEAP) formula calculations.

The 2009 RECS will be conducted under the provisions of the Confidential Information Protection and Statistical Efficiency Act (CIPSEA) of 2002 (Title 5, Subtitle A, Pub. L. 107-347). As in the past, information provided by respondents will be used only for statistical purposes.

Under the provisions of the law, every EIA employee, EIA contractor employee, and agents must keep confidential any individually identifiable information in his or her possession, and is subject to a jail term, a fine, or both, if he or she discloses or releases any identifiable information for nonstatistical purposes, without the informed consent of the respondent. The CIPSEA permits the EIA to obtain actual identifiers of survey respondents and process raw survey data on its physical premises while protecting information associated with individual respondents.

III. Request for Comments

Prospective respondents and other interested parties should comment on the actions discussed in item II. The following guidelines are provided to assist in the preparation of comments. Please indicate to which form(s) your comments apply.

As a Potential Respondent to the Request for Information:

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the due date?

E. Public reporting burden for this collection is estimated to average 45 minutes per response for Form EIA-457A, Household Questionnaire; 20 minutes per response for Form EIA-457B; 15 minutes per response for Form EIA-457C, Rental Agents, Landlords, and Apartment Managers; 30 minutes per response for Form EIA-457D, Household Bottle Gas (LPG or Propane) Usage; 30 minutes per response for Form EIA-457E, Household Electricity Usage; 30 minutes per response for Form EIA-457F, Household Natural Gas Usage; and 30 minutes per response for Form EIA-457G, Household Fuel Oil or Kerosene Usage. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information to be Collected:

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC, February 17, 2009.
Stephanie Brown,
Director, Statistics and Methods Group, Energy Information Administration.

[FR Doc. E9-3773 Filed 2-20-09; 8:45 am]

BILLING CODE 6450-01-P